DEPARTMENT OF TRANSPORTATION

Federal Aviation Administration

14 CFR Part 39

[Docket No. FAA-2005-20453; Directorate Identifier 2004-NM-270-AD]

RIN 2120-AA64

Airworthiness Directives; Airbus Model A318, A319, A320, and A321 Series Airplanes

AGENCY: Federal Aviation Administration (FAA), Department of Transportation (DOT).

ACTION: Notice of proposed rulemaking (NPRM).

SUMMARY: The FAA proposes to adopt a new airworthiness directive (AD) for certain Airbus Model A318, A319, A320, and A321 series airplanes. This proposed AD would require replacing the water drain valves in the forward and aft cargo doors with new valves. This proposed AD is prompted by a report indicating that, during a test of the fire extinguishing system, air leakage through the water drain valves in the forward and aft cargo doors reduced the concentration of fire extinguishing agent to below the level required to suppress a fire. We are proposing this AD to prevent air leakage through the water drain valves, which, in the event of a fire in the forward or aft cargo compartment, could result in an insufficient concentration of fire extinguishing agent and consequent inability of the fire extinguishing system to suppress the fire.

DATES: We must receive comments on this proposed AD by April 4, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW, room PL-401, on the plaza level of the Nassif Building, Washington, DC. This docket number is FAA-2005-20453; the directorate identifier for this docket is 2004-NM-270-AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed under ADDRESSES. Include “Docket No. FAA-2005-20453; Directorate Identifier 2004-NM-270-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A318, A319, A320, and A321 series airplanes. The DGAC advises that a test of the fire containment capability of the forward and aft cargo compartments was performed on a Model A319 series airplane. The test revealed that the concentration of the halon fire extinguishing agent decreased below the level required to suppress a fire. Investigation revealed that the drop in concentration of halon was due to too high a rate of air renewal in the compartment. Further investigation revealed that air leakage through the water drain valves in the forward and aft cargo doors and around the aft cargo temperature sensor contributed to the reduced concentration of halon. The air leakage allowed the halon to leak out of the compartment, and the remaining concentration of halon was insufficient to suppress a fire. Water drain valves not reaching the differential pressure necessary to attain the closure set point caused the air leakage through the water drain valves. In the event of a fire in the forward or aft cargo compartment, air leakage through the water drain valves, if not corrected, could result in an insufficient concentration of fire extinguishing agent and consequent inability of the fire extinguishing system to suppress the fire.

The water drain valves installed in forward and aft cargo doors on the Model A318, A320, and A321 series airplanes are identical to those on the affected Model A319 series airplanes. Therefore, all of these models may be subject to the same unsafe condition.

Other Related Rulemaking

The DGAC has issued French airworthiness directive F-2004-123, dated July 21, 2004, to address air leakage around the aft cargo temperature sensor; we are planning to address the unsafe condition of that French airworthiness directive with a separate rulemaking action.

Relevant Service Information

Airbus has issued Service Bulletin A320-52-1124, dated May 6, 2004. The service bulletin describes procedures for replacing the water drain valves in the forward and aft cargo doors with new valves that close at a lower differential pressure. Accomplishing the actions specified in the service information is intended to adequately address the unsafe condition. The DGAC mandated the service information and issued French airworthiness directive F-2004-172, dated October 27, 2004, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously.

Costs of Compliance

This proposed AD would affect about 434 airplanes of U.S. registry. The proposed actions would take about 3 to 5 work hours per airplane, depending on airplane configuration, at an average labor rate of $65 per work hour. Required parts would cost about $120 to $200 per airplane, depending on airplane configuration. Based on these figures, the estimated cost of the proposed AD for U.S. operators is between $136,710 and $227,850, or between $315 and $525 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-20453; Directorate Identifier 2004-NM-270-AD.

Comments Due Date

(a) The Federal Aviation Administration must receive comments on this AD action by April 4, 2005.

Affected ADs

(b) None.

Applicability

(c) This AD applies to Airbus Model A318, A319, A320, and A321 series airplanes, certificated in any category, as listed in Table 1 of this AD.

Table 1.—Applicability
Airbus model— | Having the following Airbus modification installed in production— | Or the following Airbus service bulletin incorporated in service— | But not having the following Airbus modification installed in production—
A318 series airplanes | Not applicable | Not applicable | 33232
A319 series airplanes | 25642 or 26213 | A320-52-1088 | 33232
A320 series airplanes | 26213 or 26603 | A320-52-1088 | 33232
A321 series airplanes | 26213 or 26603 | A320-52-1088 | 33232

Unsafe Condition

(d) This AD was prompted by a report indicating that, during a test of the fire extinguishing system, air leakage through the water drain valves in the forward and aft cargo doors reduced the concentration of fire extinguishing agent to below the level required to suppress a fire. We are issuing this AD to prevent air leakage through the water drain valves, which, in the event of a fire in the forward or aft cargo compartment, could result in an insufficient concentration of fire extinguishing agent and consequent inability of the fire extinguishing system to suppress the fire.

Compliance

(e) You are responsible for having the actions required by this AD performed within the compliance times specified, unless the actions have already been done.

Replacement of Water Drain Valves

(f) Within 6 months after the effective date of this AD, replace the water drain valves in the forward and aft cargo doors with new valves that close at a lower differential pressure, by doing all of the applicable actions specified in the Accomplishment Instructions of Airbus Service Bulletin A320-52-1124, dated May 6, 2004.

Alternative Methods of Compliance (AMOCs)

(g) The Manager, International Branch, ANM-116, Transport Airplane Directorate, FAA, has the authority to approve AMOCs for this AD, if requested in accordance with the procedures found in 14 CFR 39.19.

Related Information

(h) French airworthiness directive F-2004-172, dated October 27, 2004, also addresses the subject of this AD.

Issued in Renton, Washington, on February 22, 2005.
Ali Bahrami,
Manager, Transport Airplane Directorate, Aircraft Certification Service.

[FR Doc. 05-4079 Filed 3-2-05; 8:45 am]

BILLING CODE 4910-13-P